FEDERAL COMMUNICATIONS COMMISSION

47 CFR Part 11

[PS Docket Nos. 15-91, 15-94; FCC 24-83; FR ID 240853]

The Emergency Alert System and Wireless Emergency Alerts

AGENCY: Federal Communications Commission.

ACTION: Final rule.

SUMMARY: In this document, the Federal Communications Commission (FCC or Commission) amends its regulations governing the Emergency Alert System (EAS) and Wireless Emergency Alerts (WEA) to add a new event code, MEP, to allow alert originators to issue an alert to the public about missing and endangered persons (MEP) whose circumstances do not meet the criteria of “America's Missing: Broadcast Emergency Response” (AMBER) alerts.

DATES: Effective September 8, 2025.

FOR FURTHER INFORMATION CONTACT: David Kirschner, of the Cybersecurity and Communications Reliability Division of the Public Safety and Homeland Security Bureau, at David.kirschner@fcc.gov or (202) 418-0695.

SUPPLEMENTARY INFORMATION: This is a summary of the Commission's Report and Order (Order) in PS Docket Nos. 15-91 and 15-94, FCC 24-83, adopted on August 7, 2024, and released on August 8, 2024. The full text of this document is available online at: https://docs.fcc.gov/public/attachments/FCC-24-83A1.pdf.

Synopsis

1. The Order adds to part 11 EAS rules a new dedicated EAS event code for missing and endangered person incidents, to advance the important public policy of enabling and facilitating coordinated, nationwide law enforcement activity to locate missing and endangered persons in order to restore them to their homes, families, and communities. The Order adopts the three-character “MEP” code to enable delivery of missing and endangered person alerts over the EAS and WEA. This will promote the development of compatible, integrated and uniform “Ashanti Alert” plans throughout the United States, consistent with the Ashanti Alert Act of 2018 (Ashanti Alert Act), a Federal statute that addresses persons missing or abducted from states, territories, or Tribal communities under circumstances that fall outside of AMBER Alert notification criteria. While of widespread concern, the issue of missing and endangered persons is particularly prevalent in Tribal communities, where American Indian (AI) and Alaska Native (AN) people are at a disproportionate risk of experiencing violence, murder, or vanishing, and the Black community, which also experiences a disproportionately high risk of persons going missing.

I. Background

2. Emergency Alert System. The EAS is a national public warning system through which TV and radio broadcasters, cable systems, and other service providers (EAS Participants) deliver alerts to the public to warn it of impending emergencies and dangers to life and property. The primary purpose of the EAS is to furnish the President with “the capability to provide immediate communications and communications and information to the general public at the National, State and Local Area levels during periods of national emergency.” The common usage of the EAS, however, is to distribute alerts issued by state and local governments, as well as by the National Weather Service (NWS), to the public. The Commission, the Federal Emergency Management Agency (FEMA), and the NWS implement the EAS at the Federal level.

3. EAS alerts are configured using the EAS Protocol, which utilizes fixed, three-character “event codes” (e.g., “CAE” signifies Child Abduction Emergency, “TOR” signifies Tornado Warning, and “FFW” signifies Flash Flood Warning) to describe the type of alert being sent. Additional data identifies other elements of an EAS alert, enabling the delivery of temporally- and geographically-targeted alerts to the public. EAS messages are distributed either through (i) a broadcast-based, hierarchical distribution system in which an alert message originator (“Alert Originator”) (e.g., State Governor's offices, state/county/Tribal emergency management authorities, NWS, etc.) encodes (or arranges to have encoded) a message in the EAS Protocol, which is then broadcast from one or more EAS Participants and subsequently relayed, participant-to-participant, until all affected EAS Participants have received the alert and delivered it to the public; or (ii) an internet Protocol (IP)-based process over the internet after formatting the alerts in the Common Alerting Protocol (CAP) and delivering them via the FEMA administered Integrated Public Alert and Warning System (IPAWS).

4. Ashanti Alerts. Enacted in 2018, the Ashanti Alert Act is named in honor of Ashanti Billie, a 19-year-old woman who was abducted in 2017 in Virginia and found dead in North Carolina. The Ashanti Alert Act requires a National Coordinator within the Department of Justice (DOJ) (the Bureau of Justice Assistance (BJA)) to establish a national communications network to “provide assistance to regional and local search efforts for missing adults through the initiation, facilitation, and promotion of local elements of the network, in coordination with States, Indian Tribes, units of local government, law enforcement agencies, and other concerned entities with expertise in providing services to adults.” Ashanti Alerts are intended to aid in the search and recovery of missing persons over the age of 17 who fall outside the scope of AMBER Alerts and Silver Alerts.

5. Under the Ashanti Alert Act, BJA, among other things, must work with “States and Indian Tribes to encourage the development of additional Ashanti Alert plans in their network” and “establish voluntary guidelines for States and Indian Tribes to use in developing Ashanti Alert plans that will promote compatible and integrated Ashanti Alert plans throughout the United States.” And the BJA must coordinate and consult with the Commission and other Federal agencies “in carrying out activities under” the Ashanti Alert Act, and also must “consult with local broadcasters and State, Tribal and local law enforcement agencies in establishing minimum standards [for issuance and dissemination of Ashanti Alerts] and in carrying out other activities” under the Ashanti Alert Act.

6. Savanna's Act. Named for Savanna LaFontaine-Greywind, a pregnant member of the Spirit Lake Tribe found brutally murdered in the Red River of North Dakota in 2017, Savanna's Act clarifies Federal, state, Tribal, and local law enforcement responsibilities for collecting and sharing data “related to missing or murdered Indian men, women, and children, regardless of where they reside . . . and directs U.S. attorneys to develop regionally appropriate guidelines for responding to missing or murdered Indians.” Savanna's Act further calls for establishing guidance for “best practices in conducting searches for missing persons on and off Indian land.” Savanna's Act brings attention to the need for law enforcement coordination in addressing violent crimes against American Indians and Alaska Natives.

7. National Congress of American Indians' (NCAI) Resolution. In late 2023, Native Public Media (NPM) sponsored a resolution calling for the Commission to establish an MEP event code to “enable a more rapid and coordinated response to incidents involving missing indigenous persons.” NCAI Resolution #NO-23-001 states that “Native Americans face significant challenges in addressing the issue of missing and endangered adults, requiring immediate attention and action,” and that current EAS event codes fail to account for these unique missing person circumstances. The NCAI further states that their “communities have historically been disproportionately affected by missing person cases, with Native Americans constituting 2.5% of all missing person cases despite comprising only 1.2% of the U.S. population, as reported by the National Crime Information Center, underscoring the urgent need for targeted measures.” The General Assembly of NCAI adopted this resolution in November 2023.

8. On January 29, 2024, the National Ashanti Alert Network Stakeholder Working Group and Pilot Project Participants Working Group (Ashanti Alert Working Groups) submitted comments that “noted a need for a missing and endangered person code that would supplement the current Child Abduction Emergency (CAE) and Blue Alert (BLU) IPAWS codes. Currently no code exists for missing and endangered persons,” which requires alerting agencies to use generic EAS event codes such as Local Area Emergency (LAE) or Law Enforcement Warning (LEW), when they issued an alert for a missing and endangered person. In offering language for a missing and endangered persons event code, they used “person” and “persons. Although Ashanti Alerts only apply to adults, the Ashanti Alert Working Groups specifically noted that they did not use “adult” in their proposed language “because alerting agencies have noted that not all missing children fit the criteria outlined for an AMBER alert and as such the MEP code could be utilized when CAE alert criteria [are] not met.”

9. Post-MEP Notice of Proposed Rulemaking (NPRM) Tribal Consultation. The Commission adopted the MEP NPRM on March 14, 2024, proposing to “revise the Commission's EAS rules to add a new `MEP' event code for all EAS alerts about missing and endangered person incidents that do not meet the criteria for an AMBER Alert.” (89 FR 27699, April 18, 2024) Consistent with Commission policy, the Commission directed the Office of Native Affairs and Policy (ONAP) to coordinate government-to-government consultation with Tribal Nations about the topics raised in the MEP NPRM, including the proposal to add a new “MEP” event code and whether it should consider an additional dedicated EAS event code for missing Indigenous persons on and off Tribal land.”

10. Accordingly, ONAP arranged and participated in several consultation and listening sessions with leaders, representatives, and members of federally recognized Tribes and their communities. The consultative events and related ex parte meetings took place in May and June 2024, both in person and virtually. In the meetings, ONAP provided overviews of the Commission's rulemaking processes and the MEP NPRM. Commission staff solicited feedback from Tribal participants and explained how Tribal participants could engage in the rulemaking process through comment submissions in the relevant dockets.

II. Discussion

11. The Order finds that the EAS is an effective mechanism for delivering emergency alerts, which may include alerts about missing and endangered persons. An MEP event code could be used for all EAS alerts about missing and endangered person incidents including those that meet the criteria for an Ashanti Alert and those involving persons who are under 18 yet do not already meet the criteria for an AMBER Alert. The Order also finds that a dedicated EAS event code for missing and endangered person alerts serves the public interest and advances state and Tribal initiatives to find missing and endangered persons. Accordingly, we create and add a dedicated MEP event code to the EAS Protocol. The Order also permits MEP alerts to be deployed via WEA using existing alerting methodologies and consistent with our WEA rules. Finally, the Order establishes a period of 12 months from publication of the Report and Order in the Federal Register, both to enable the usage of the MEP EAS event code over EAS, and to enable the delivery of alerts over WEA.

12. The Order finds, as virtually all commenters affirm, that adopting an MEP event code will make the EAS a more effective tool for finding missing and endangered persons. FEMA, which “maintain[s] the integrity” of IPAWS and, among other duties, “provid[es] guidance on the categories of public emergencies” meriting an alert, supports the creation of “a new event code to expand emergency messaging for MEPs that fall outside the current criteria of the AMBER Alert.” FEMA lauds the EAS' functionality and resiliency, and believes that implementation of an MEP event code in the same fashion as the CAE event code for AMBER Alerts presents “no constraints that would impede the EAS's ability to contain the information required” for those alerts. This position accords with the views of industry and public safety commenters who also support implementation of the MEP event code.

12. The Commission also finds the views of Tribal and Indigenous communities supporting this action particularly compelling. These communities face a profound crisis of missing, endangered, abducted, and murdered persons. As one Native American commenter pointed out, “the MEP event code can be actively deployed to reach remote and underserved tribal communities, ensuring swift and efficient dissemination of critical information.” Coordinated, often multi-jurisdictional law enforcement search, rescue, and recovery activities enhanced by an MEP EAS event code could have enormous life-saving value for AI/AN people as well as persons of color.

13. Comments associated with the FCC's Tribal consultations and ex parte meetings also resoundingly support adding the proposed MEP event code to EAS, which could then be sent using a WEA, which is seen as “a tool that would assist in recovery of missing and endangered persons” and, indeed, could “speed up the process to disseminate missing persons alerts.” Comparing the proposed MEP code to AMBER Alerts, commenters expressed hope that the MEP code would be as effective as AMBER Alerts have been in helping to locate missing and endangered children. Another noted that the lack of a national EAS alert code for missing and endangered adults is “one of the biggest barriers to the recovery of missing and endangered Indigenous people.”

14. The Commission finds that it is in the public interest, as the vast majority of other commenters support, to facilitate notifications for all missing and endangered people, including AI/AN people, using the existing EAS mechanism.

15. Technical and operational feasibility. The Order finds that it is technically and operationally feasible to send MEP alerts using the EAS. As FEMA observes in supporting the Commission's proposed use of EAS to deliver MEP alerts nationally, the EAS and the “alerting ecosystem” in which it operates “is the broadest and most resilient system for relaying emergency messages” and, indeed, there will be “no constraints that would impede the EAS's ability” to function as proposed by the Commission. The Navajo Nation, citing its own experience with Ashanti Alerts for Navajo people, asserts that “there are no constraints in the ability to send out imperative information through EAS under the Ashanti Alert.” The Commission agrees, and further observes that no commenter has suggested otherwise.

16. Geographic Requirements. The Order finds that the code the Commission adopts strikes a proper balance between the need to avoid the deleterious effects of alerting misuse or overuse through appropriate geolocation while ensuring sufficient scope to aid location and recovery of missing and endangered persons. EAS's effectiveness in managing the geographic targeting required for Blue Alerts (BLU) and AMBER Alerts (CAE), which the Commission acknowledged in the BLU Report and Order (83 FR 2557, January 18, 2018), warrants a conclusion that the EAS will be similarly effective for alerts using the MEP event code. That effectiveness, in turn, will both advance the critical policy goal of finding and recovering missing and endangered persons, and enhancing the public's trust in emergency alerts by avoiding unnecessarily broad activations that might contribute to warning fatigue.

17. The Commission expects that EAS Participants can and will accommodate both micro- and macro-area geographic alerting in the context of missing and endangered person alerts, as they do for Blue Alerts and AMBER Alerts now. Of course, as is the case already with Blue and AMBER alerts, geographic scope will be based on the Alert Originators' inputs concerning the “emergency prompting” the alert. That is a matter of law enforcement discretion in originating and cascading the alert, of course, not an issue of whether the requirement poses technical feasibility challenges to the EAS, however broad or narrow that scope input may be at origination.

18. IPAWS and Legacy EAS. The Commission agrees with commenters such as FEMA and the Navajo Nation that EAS MEP Alerts sent via both the IPAWS and the legacy EAS broadcast “daisy chain” will provide the fullest possible support for MEP transmissions. The Commission sees no discrepancy between the two delivery mechanisms material enough to prevent us from adopting the MEP event code as proposed.

19. As the Commission previously noted: “additional information cannot be relayed when CAP alerts are converted into legacy alerts for further distribution over the legacy EAS, all data other than the header codes [and the audio reading of the alert] are lost in this conversion process.” To address this issue, the Commission required EAS Participants to check for CAP-formatted messages when they receive state or local alert messages in legacy format, and if the same alert is available in CAP format, to relay the CAP version instead. As a result, the benefits of the CAP formatted alert should always be available unless IPAWS is inaccessible, in which case the legacy format will still provide the audio description of the alert.

20. The Commission adds the dedicated MEP event code to the EAS to advance the public interest and the purposes of the Ashanti Alert Act. The Commission believes that a dedicated EAS event code that expands MEP emergency messaging that fall outside the scope of AMBER Alerts will promote stronger nationwide coordination on Ashanti Alerts and other missing and endangered person alerts. It will also address jurisdictional alerting discrepancies, mitigate public confusion with respect to the meaning of various alerts, and ensure that more missing and endangered persons cases will be covered by the Federal emergency communications system. In the end, the Commission believes, this dedicated EAS event code will “help save lives of [missing and endangered persons] across the United States and Tribal Nations.”

21. Moreover, adding missing and endangered person alerts to EAS will advance the important public policy objective of “encouraging states, territories, and Tribal governments to develop or enhance existing missing and endangered person and Ashanti Alert plans to optimize regional and nationwide search efforts for missing, endangered, or abducted persons.” This is so, the Commission believes, because of the expected results; the persons who are saved, found, and reunited with their families and communities may encourage policy makers and law enforcement stakeholders to embrace EAS-enabled efficiencies in existing plans and, where no such plans exist, to construct them to serve their communities. In this regard, the Commission agrees with FEMA, which asserts that the new MEP EAS event code would “promote stronger nationwide coordination” with respect to handling missing and endangered persons alerts, and also would “address the discrepancies in alerts between different jurisdictions” and help save the lives of missing and endangered persons.

22. The Commission concludes that alert originators may use the MEP event code for all missing and/or endangered people alerts that do not qualify for an AMBER alert, whether that is because the missing and/or endangered person is over 17 or does not meet other criteria for issuing an AMBER alert. As FEMA observes, expanding emergency messaging for MEPs that fall outside of the criteria of an AMBER Alert, “would promote stronger nationwide coordination on alerting for MEPs, address the existing discrepancies in alerts between different jurisdictions, mitigate public confusion on the meaning of various alerts, and ensure that federal rules and regulations cover more cases of MEPs.” FEMA notes that its research “shows that more than forty missing and endangered alert names lack uniformity in alert criteria and/or requirements and can create public confusion, especially when traveling from state to state.” The Commission agrees with FEMA that establishing a dedicated MEP code “will contribute to a national unified messaging approach to finding MEPs.”

23. The Order also finds that this will further the goals of the Ashanti Alert Act. In their request for an MEP event code, the Ashanti Alert Working Groups offered a definition for an MEP code that uses “person” or “persons,” but not “adult.” To emphasize this point they write: “Note that the term adult is not added within this warning to differentiate same from CAE [the event code for AMBER Alerts] alerts because alerting agencies have noted that not all missing children fit the criteria outlined for an AMBER alert and as such the MEP code could be utilized when CAE alert criteria [are] not met.” The Commission agrees with the Ashanti Alert Working Groups and other commenters who argue that an MEP event code should be able to be used for all missing and endangered person alerts that do not qualify for an AMBER Alert. Providing the broadest parameters for an MEP event code will grant maximum flexibility to alerting authorities trying to find missing and endangered persons, including Tribal alert originators who may not want to be constrained by the Ashanti Alert criteria when using the EAS and WEA to find missing and/or endangered members of their community.

24. Tribal and Indigenous Voices. Tribal leaders, representatives, organizations, and members also believe the MEP event code will lead to optimization of existing missing and endangered persons plans and encouragement of plan development throughout the Nation. The United South and Eastern Tribes, Inc. (USET) states that “adoption of MEP as a dedicated EAS event code would encourage EAS Participants to deliver missing and endangered persons and Ashanti Alert[s]” nationwide, “thereby facilitating the work of the National Ashanti Alert Network.” USET also agrees that the MEP event code would promote “nationwide adoption and expansion of Ashanti Alerts while [ ] ensuring that missing and endangered persons that don't meet the criteria of AMBER Alerts . . . are appropriately transmitted to the public.” Similarly, the Navajo Nation commends the EAS as “extremely efficient and effective” in its experience using it and WEA.

25. NPM extols IPAWS and asserts that “the MEP code established within EAS would provide a clear, consistent trigger for issuing alerts across all participating media outlets and platforms.” NPM further believes that “[s]tandardizing criteria for activation [by way of EAS and IPAWS] would be nationwide, ensuring a baseline level of urgency and response regardless of location.”

26. Commenters, including FEMA, industry, and Tribal voices support an EAS event code solely dedicated to MEP alerts. These commenters agree it will promote and catalyze uniformity with respect to efforts to locate and recover missing and endangered persons, promote the creation of Ashanti Alert Plans and Ashanti Alert-compliant Plans where they may not currently exist, and aid the integration of such plans into a coordinated national framework consistent with the Ashanti Alert Act's stated goals.

27. The Commission believes that adoption of a single MEP code is appropriate at this time. Although nearly all AI/AN, Tribal, and Indigenous commenters favored swiftly moving forward with an MEP EAS event code as principally proposed in the MEP NPRM, some favor a Tribal-specific MIP (Missing Indigenous Person) or similar event code for EAS soon thereafter, while others call for only an MIP event code and others call for only an MEP event code. The Commission believes a single MEP event code will advance the cause of aiding in the rescue of Native persons and will monitor implementation of the new event code to make sure that is the case.

28. The Order permits MEP alerts to be deployed via WEA using existing alerting methodologies and consistent with the Commission's WEA rules. The Commission believes that using the existing technologies will ensure a swift implementation of the new code. The Commission thus agrees with CTIA—The Wireless Association's (CTIA) and the Alliance for Telecommunications Industry Solutions' (ATIS') suggestion that the Commission use an existing WEA classification to achieve its alerting goals here. In addition, the Commission agrees with those commenters addressing the question that the logical WEA alert class choices are the Imminent Threat class and the Public Safety Message alert class.

29. The Commission observed in the MEP NPRM that the WEA system is a “tool for authorized federal, state, local and Tribal government[s]” to provide geographically targeted alerts and warnings to WEA-capable mobile devices of participating commercial mobile service (CMS) providers' subscribers. However, WEA “does not use event codes” like the EAS; rather, EAS alert origination software and FEMA IPAWS `map' EAS event codes onto WEA handling codes corresponding to the alert message classifications the Commission has authorized for issuance over WEA. These classifications, currently, are National Alert, Imminent Threat Alert, AMBER Alert, and Public Safety Message.

30. The Commission agrees with ATIS that there would be no “technical impacts to Commercial Mobile Service Provider (CMSP) networks or mobile devices if the EAS MEP event code is mapped to any existing WEA alert class.” As ATIS notes, the required mapping would “occur prior to the arrival of the alert message at the CMSP network,” and there would be no need for device modifications to reflect any “user choice for opting in/out because all existing alert classes are already represented in the device WEA menus.” The Commission also agrees with CTIA that using an “existing alert class to implement any MEP alert will help avoid costly changes and potential backwards compatibility issues to handsets and Participating CMSP networks, as well as costly and time-consuming end-to-end testing and new device roll-out—all of which would delay the availability of the alert.”

31. In the BLU Report and Order, the Commission declined to adopt a new alert classification for Blue Alerts and further chose not to specify one of the existing WEA classifications for Blue Alerts. Instead, the Commission left these issues “teed up in the Blue Alert NPRM” (82 FR 29811, June 30, 2017) proceeding “to help gather additional information on this issue beyond what the record currently contains.” The Commission chose this temporary course in order to “reduce the necessary time for Blue Alerts to become available on WEA, and [to] reduce the costs to WEA stakeholders,” i.e., of establishing a new classification. The Commission does so again here.

32. In the MEP NPRM, the Commission sought comment on the timeframe “in which MEP as a dedicated EAS event code for missing and endangered person alerts, including Ashanti Alerts, could be implemented.” Because of the similar technical and public safety-related steps involved, the Commission proposed the same timeframe as that chosen in the BLU Report and Order, where the Commission required EAS equipment manufacturers to integrate BLU EAS event codes into equipment not yet manufactured or sold, and to make necessary software upgrades available to EAS Participants within 12 months. The Commission also proposed to allow EAS Participants, as in the BLU Report and Order, to implement the new MEP event code “on a voluntary basis through new equipment programmed to contain the code or through a software upgrade to install the code into equipment already in place.” We adopt those approaches here.

33. The Commission allows a period of 12 months from publication of the Report and Order in the Federal Register to enable the delivery of missing and endangered person alerts over EAS and over WEA. While the Commission “encourage[s] stakeholders to work together voluntarily to implement” MEP Alerts in swift fashion in order to capture “the important public safety objectives involved,” the record reflects that implementation is not merely turn-key. Rather, some time is necessary for equipment manufacturers and CMSPs to prepare their equipment and networks to be able to process alerts sent with an MEP event code over EAS and WEA, as well as for alert originators, EAS Participants, and other stakeholders to acquire appropriate training and resources to deliver these alerts to the public if they choose to do so. This implementation schedule will ensure all stakeholders have sufficient time to address any technical, resource, and training needs they may require to ensure the successful delivery of missing and endangered person alerts.

34. The Navajo Nation supports the Commission's 12-month implementation proposal and urges the Commission to move swiftly to implement the MEP event code. They acknowledge that implementation, especially if it is to be effective for Tribal communities and Indigenous people, will entail “comprehensive training, culturally sensitive outreach, and a holistic approach that respects tribal sovereignty.” Additionally, multiple individuals commented at the Commission's Tribal consultation and listening sessions regarding the need for socialization, outreach, and training for Tribal nations regarding implementation and adoption of the MEP code, and raised questions regarding available funding and support for tribal nations. NPM, like FEMA, pledges to work with the Commission and others in this regard.

35. No commenter objected to the Commission's proposed timeline. FEMA, while not commenting on the proposed implementation timeline, pledges “to work closely with the FCC to inform and empower jurisdictions” in the effective use of the MEP event code, and to work with “the FCC, the broadcast industry, Alert Originators (AOs), and relevant stakeholders to determine how alerts using the MEP event code can be successfully implemented.” The Commission takes this to mean that FEMA, which controls IPAWS, is committed to doing its part to ensure the MEP event code is operationalized as swiftly as possible and does not object to a 12-month timetable.

36. NCTA—The Internet & Television Association (NCTA) takes issue with the Commission's incremental time estimates in the MEP NPRM, arguing that the “process takes weeks to months, not a few hours as the Notice suggests.” The Commission proposed 12 months for implementation, which is consistent with NCTA's contention. The Commission also notes that NCTA does not suggest that 12 months, overall, is insufficient for the labors and operations needed. Thus, the Commission has, as NCTA urged, “take[n] notice” of the processes involved in calibrating a 12-month implementation requirement; the Commission does not read NCTA's comments to take issue with that overall. The Commission understands the technical issues involved in implementing the new event code and appropriately sets the implementation deadline to address those concerns.

37. When the Commission addressed virtually identical issues in the BLU Report and Order, it followed NCTA's suggestion, then, that the Commission look to “EAS manufacturers to determine the adequacy of the time allocated for software upgrades to equipment.” There, the Commission noted comments from EAS equipment manufacturers “that 12 months is sufficient to allow for the [Blue Alerts] event code to be deployed within a scheduled in-version equipment software update, resulting in no incremental cost to EAS Participants, rather than as a scheduled major version upgrade that would have to be separately purchased.”

38. The Commission chooses to follow its determination in the BLU Report and Order and require a 12-month implementation deadline for both EAS Participants and CMSPs. In the BLU Report and Order, the Commission acknowledged the soundness of 12 months for EAS Participants on the theses presented there, as described above, and the Commission believes these are mostly identical to the present MEP event code. However, in the BLU Report and Order, CMSPs contested a 12-month implementation deadline and specifically sought 18 months due to the technical requirements they anticipated (including concurrent implementation of then-pending wireless industry technical standards). Those issues are not present here because the standards have now been set and implemented. Rather, CMSPs conveyed confidence in implementation assuming the Commission does not order a new WEA classification for these alerts, which the Commission does not choose to do. Accordingly, the Commission adopts the same 12-month implementation schedule for CMSPs as for EAS Participants.

39. Finally, the MEP NPRM proposed to allow EAS Participants to upgrade their equipment to add a designated MEP event code on a voluntary basis until their equipment is replaced. This proposal is the same as, or very similar to, the approach the Commission took with Blue Alerts in 2017 and with other new EAS event codes in the past. Commenters who addressed this issue agree. Accordingly, the Commission adopts its proposal, and permits EAS Participants to update their software to add the MEP event code on a voluntary basis. As the Commission observed in the NWS Report and Order (81 FR 53039, August 11, 2016), and re-affirmed in the BLU Report and Order, “the use by EAS Participants of these codes is and has always been voluntary, and `it would be contrary to the voluntary nature of state and local EAS to mandate upgrades to existing EAS equipment to incorporate new optional event codes.' ” The Commission again finds that this approach will significantly reduce the costs to EAS Participants.

40. The Commission sought comment in the MEP NPRM on additional issues that affect implementation of the MEP event code approved in the Order. For example, the Commission invited comment on: (i) whether to consider a missing Tribal or Indigenous person-specific EAS code in addition to the MEP event code; (ii) how to ensure adequate protection of civil liberties, sensitive medical information, and other privacy-related issues; and (iii) public awareness, outreach, and engagement to ensure that the MEP code effectively conveys an “appropriate sense of urgency to the public and galvanize[s] the public . . . to aid in the finding of missing or endangered adults.”

41. NPM addresses these questions in part by asking the Commission to engage with Tribes, as sovereign nations, to empower and aid their efforts to address the missing and endangered persons crisis uniquely imperiling their communities. In that regard, NPM asks the Commission to, among other things, encourage Tribes to become IPAWS Alerting Authorities and, through ONAP outreach (which necessarily would involve other alerting stakeholders, such as FEMA and DOJ), provide them the support needed to achieve that status. NPM looks to ensure that all participants in the MEP ecosystem “recognize that this work is a sacred trust.”

42. The Commission thinks there is merit to NPM's suggested approach, given the value in ensuring the EAS efficiently and effectively addresses the plight of the missing in AI/AN communities. The Commission is interested in how such an approach might be implemented (e.g., bringing together stakeholders from AI/AN communities, FEMA, EAS Participants, law enforcement, and other trusted alerting system stakeholders to aid a process of understanding and implementation germane to Tribal communities). Accordingly, the Commission will continue to consider this subject through further engagement between ONAP and members of AI/AN communities, which ideally should occur in tandem with the roll-out of the MEP event code.

43. The Order concludes that the benefits of implementing the MEP EAS event code, and permitting MEP alerts to be deployed via WEA using existing alerting methodologies and consistent with the Commission's WEA rules, outweigh its costs. In this regard, the Commission draws extensively on its experience with the implementation of new EAS event codes and acknowledges the potential benefits of missing and endangered person alerts issued via an MEP EAS event code and WEA alerts, with respect to which nearly all commenters in this proceeding agree. The Order finds that most of the potential costs of implementation arise from software updates made outside of the normal course of planned upgrades. The Order allows sufficient time and flexibility to allow manufacturers and EAS Participants and CMSPs to make upgrades and to conduct associated testing in tandem with general software upgrades installed during the regular course of business, thus minimizing costs. The rules adopted in the Order present many potential benefits by keeping the public informed and vigilant via the issuance of alerts, and by enlisting their aid to more quickly locate and recover missing and endangered persons, as well as the same kinds of cost reductions for 911 call centers and emergency responders the Commission outlined in the BLU Report and Order.

44. Costs. The Order finds, as suggested in the MEP NPRM, that the main cost to EAS Participants that elect to install MEP will be the cost involved in downloading the software updates into their devices and conducting associated testing. In the MEP NPRM, the Commission posited that adopting an MEP Alert EAS event code would present similar technical issues to those raised in the BLU Report and Order, and, accordingly, tentatively concluded that the costs for adding a dedicated missing and endangered person alert EAS event code would not exceed a one-time $12 million implementation ceiling. The Commission carefully explained its rationale for that calculation. No industry or other commenter has challenged this tentative conclusion. Accordingly, the Commission adopts its tentative conclusion from the MEP NPRM and finds that a dedicated missing and endangered person alert EAS event code would not exceed a one-time $12 million implementation cost. Further, the Commission notes that EAS Participants can avoid most incremental implementation costs by downloading the new MEP event code in conjunction with a scheduled software update.

45. Although the Commission recognizes that EAS equipment manufacturers will incur some costs in making the new event code available to all EAS Participants, the Commission believes that 12 months will provide sufficient time to dovetail the MEP upgrade with other scheduled upgrades, posing minimal expense to equipment manufacturers. The Commission believes that the costs for implementation of WEA—given the Commission's decision not to require a new alert classification—will be similarly low. As such, the Commission believes there will be no, or only low, incremental costs associated with the delivery of missing and endangered person alerts over WEA, and that the 12 months granted to Participating CMS Providers is sufficient to allow providers to minimize the costs of deployment.

46. Benefits. The Commission anticipates that establishing the EAS MEP event code and allowing MEP alerts through WEA will improve emergency alerting during events described in DOJ's Ashanti Alert criteria, as well as other missing and endangered person scenarios, thereby helping law enforcement locate and recover missing and endangered persons and return them to their regular lives. Existing EAS event codes, such as CAE (AMBER) and LEW (law enforcement warning), are either unavailable for missing and endangered adults (AMBER) or do not effectively identify missing and endangered person alerts to the public (LEW). While precise numerical estimation is not possible, the Commission expects that the MEP event code will improve public safety outcomes for missing and endangered persons in a similar fashion to CAE and AMBER Alerts. The Commission notes the success of AMBER Alerts, where 180 out of the 181 AMBER Alerts issued in 2022 resulted in a recovery, with respect to which 16 were as a direct result of an AMBER Alert being issued. In contrast, Ashanti Alerts have not been as effective as AMBER Alerts. The Commission anticipates that using a dedicated MEP Event code in the EAS and the corresponding WEA handling codes would greatly improve the effectiveness of the alerts for missing and endangered persons not currently covered by AMBER Alerts. Given that fewer than one third of active missing persons records involves children under the age of 18, the Commission anticipates the number of the MEP Alerts per year would be at least double the number of AMBER Alerts. The Commission believes it is reasonable to expect that many more missing and endangered persons will be located and recovered due to the issuance of an EAS missing and endangered person alert that uses the MEP event code. Extrapolating the recovery of missing children directly attributable to AMBER Alerts, the Commission estimates that more than 15 additional missing adults per year would be recovered as a result of the Order. The recovery could prevent deaths and bodily harm that these missing persons may otherwise have to endure. Therefore, the benefits to public safety as a result of the Order could be substantial. If even one life is saved due to these recoveries, the public safety benefits would outweigh the costs. The Order concludes that the minor burdens associated with adopting the MEP code will be more than offset by its benefits. The Commission also concludes that, given the potential for lifesaving and reduction in harm, if even the number of missing persons equals those found due to AMBER Alerts, and definitely if it exceeds it, this item will result in excess of $100 million in benefits.

III. Procedural Matters

A. Accessible Formats

47. To request materials in accessible formats for people with disabilities (Braille, large print, electronic files, audio format), send an email to fcc504@fcc.gov or call the Consumer & Governmental Affairs Bureau at 202-418-0530 (voice).

B. Regulatory Flexibility Analysis

48. The Regulatory Flexibility Act of 1980, as amended (RFA), requires that an agency prepare a regulatory flexibility analysis for notice and comment rulemakings, unless the agency certifies that “the rule will not, if promulgated, have a significant economic impact on a substantial number of small entities.” Accordingly, the Commission has prepared a Final Regulatory Flexibility Analysis (FRFA) concerning the possible impact of the rule changes contained in this Report and Order on small entities. The FRFA is set forth in Appendix B of the Report and Order.

C. Paperwork Reduction Analysis

49. This document does not contain information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

D. Congressional Review Act

50. The Commission has determined, and the Administrator of the Office of Information and Regulatory Affairs, Office of Management and Budget, concurs, that this rule is major under the Congressional Review Act, 5 U.S.C. 804(2). The Commission will send a copy of this Report and Order to Congress and the Government Accountability Office pursuant to 5 U.S.C. 801(a)(1)(A).

IV. Final Regulatory Flexibility Analysis

51. As required by the Regulatory Flexibility Act of 1980, as amended (RFA), an Initial Regulatory Flexibility Analysis (IRFA) was included in the MEP NPRM released in March 2024. The Commission sought written public comment on the proposals in the MEP NPRM, including comments on the IRFA. No comments were filed addressing the IRFA. This Final Regulatory Flexibility Analysis (FRFA) conforms to the RFA.

A. Need for, and Objectives of, the Order

52. The Order advances the important public policy of encouraging the formation, enhancement, and integration of Ashanti Alert plans throughout the United States, and for other purposes, by “establish[ing] a voluntary nationwide communication network to aid in the search and recovery of missing persons over the age of 17 who fall outside the scope of America's Missing: Broadcast Emergency Response (AMBER) Alerts and Silver Alerts.” As required by the Ashanti Alert Act, the DOJ has designated the BJA as the Ashanti Alert Coordinator which, in turn, has developed guidance for “states, Indian Tribes, local governments, law enforcement agencies, and other stakeholders seeking to establish or enhance an existing Ashanti Alert Plan” in a manner that will promote compatible and integrated missing and endangered person plans throughout the United States. The Order creates and adds a dedicated MEP event code to the EAS Protocol for Ashanti Alerts, and permits MEP alerts to be deployed via WEA using existing alerting methodologies and consistent with our WEA rules. It also establishes a period of 12 months from publication of the Order in the Federal Register to enable the delivery of Ashanti Alerts over EAS, and over WEA. Ashanti Alert carriage, and use of the MEP event code will be voluntary. EAS Participants who decide to carry missing and endangered person alerts, including Ashanti Alerts, should be able to accommodate the new code with a software upgrade of equipment already in place but not yet capable of handling these codes. Any new equipment allowed under existing rules is either similarly upgradeable or will already be programmed to handle the code.

53. The Order promotes the development of compatible and integrated Ashanti Alert plans throughout the United States, consistent with the Ashanti Alert Act, and supports the need for a dedicated EAS event code for missing and endangered person alerts. The Order also describes the integration of missing and endangered person alerts into WEA.

B. Summary of Significant Issues Raised by Public Comments in Response to the IRFA

54. There were no comments filed that specifically address the proposed rules and policies presented in the IRFA.

C. Response to Comments by Chief Counsel for Advocacy of the Small Business Administration

55. Pursuant to the Small Business Jobs Act of 2010, which amended the RFA, the Commission is required to respond to any comments filed by the Chief Counsel for Advocacy of the Small Business Administration (SBA), and to provide a detailed statement of any change made to the proposed rules as a result of those comments.

56. The Chief Counsel did not file any comments in response to the proposed rule changes in this proceeding.

D. Description and Estimate of the Number of Small Entities to Which the Rules Will Apply

57. The RFA directs agencies to provide a description of and, where feasible, an estimate of the number of small entities that may be affected by the rules adopted herein. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by SBA.

58. Small Businesses, Small Organizations, Small Governmental Jurisdictions. Our actions, over time, may affect small entities that are not easily categorized at present. We therefore describe, at the outset, three broad groups of small entities that could be directly affected herein. First, while there are industry-specific size standards for small businesses that are used in the regulatory flexibility analysis, according to data from SBA's Office of Advocacy, in general a small business is an independent business having fewer than 500 employees. These types of small businesses represent 99.9% of all businesses in the United States, which translates to 33.2 million businesses.

59. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2022, there were approximately 530,109 small exempt organizations in the U.S. reporting revenues of $50,000 or less according to the registration and tax data for exempt organizations available from the IRS.

60. Next, the type of small entity described as a “small organization” is generally “any not-for-profit enterprise which is independently owned and operated and is not dominant in its field.” The IRS uses a revenue benchmark of $50,000 or less to delineate its annual electronic filing requirements for small exempt organizations. Nationwide, for tax year 2022, there were approximately 530,109 small exempt organizations in the U.S. reporting revenues of $50,000 or less according to the registration and tax data for exempt organizations available from the IRS.

61. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2022 Universal Service Monitoring Report, as of December 31, 2021, there were 594 providers that reported they were engaged in the provision of wireless services. Of these providers, the Commission estimates that 511 providers have 1,500 or fewer employees. Consequently, using the SBA's small business size standard, most of these providers can be considered small entities.

62. Broadband Personal Communications Services. The broadband personal communications services (PCS) spectrum encompasses services in the 1850-1910 and 1930-1990 MHz bands. The closest industry with an SBA small business size standard applicable to these services is Wireless Telecommunications Carriers (except Satellite). The SBA small business size standard for this industry classifies a business as small if it has 1,500 or fewer employees. U.S. Census Bureau data for 2017 show that there were 2,893 firms that operated in this industry for the entire year. Of this number, 2,837 firms employed fewer than 250 employees. Thus, under the SBA size standard, the Commission estimates that a majority of licensees in this industry can be considered small.

63. Based on Commission data as of November 2021, there were approximately 5,060 active licenses in the Broadband PCS service. The Commission's small business size standards with respect to Broadband PCS involve eligibility for bidding credits and installment payments in the auction of licenses for these services. In auctions for these licenses, the Commission defined “small business” as an entity that, together with its affiliates and controlling interests, has average gross revenues not exceeding $40 million for the preceding three years, and a “very small business” as an entity that, together with its affiliates and controlling interests, has had average annual gross revenues not exceeding $15 million for the preceding three years. Winning bidders claiming small business credits won Broadband PCS licenses in C, D, E, and F Blocks.

64. In frequency bands where licenses were subject to auction, the Commission notes that, as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these, at this time we are not able to estimate the number of licensees with active licenses that would qualify as small under the SBA's small business size standard.

65. Narrowband Personal Communications Services. Narrowband Personal Communications Services (Narrowband PCS) are PCS services operating in the 901-902 MHz, 930-931 MHz, and 940-941 MHz bands. PCS services are radio communications that encompass mobile and ancillary fixed communication that provide services to individuals and businesses and can be integrated with a variety of competing networks. Wireless Telecommunications Carriers (except Satellite) is the closest industry with an SBA small business size standard applicable to these services. The SBA small business size standard for this industry classifies a business as small if it has 1,500 or fewer employees. U.S. Census Bureau data for 2017 show that there were 2,893 firms that operated in this industry for the entire year. Of this number, 2,837 firms employed fewer than 250 employees. Thus, under the SBA size standard, the Commission estimates that a majority of licensees in this industry can be considered small.

66. According to Commission data as of December 2021, there were approximately 4,211 active Narrowband PCS licenses. The Commission's small business size standards with respect to Narrowband PCS involve eligibility for bidding credits and installment payments in the auction of licenses for these services. For the auction of these licenses, the Commission defined a “small business” as an entity that, together with affiliates and controlling interests, has average gross revenues for the three preceding years of not more than $40 million. A “very small business” is defined as an entity that, together with affiliates and controlling interests, has average gross revenues for the three preceding years of not more than $15 million. Pursuant to these definitions, 7 winning bidders claiming small and very small bidding credits won approximately 359 licenses. One of the winning bidders claiming a small business status classification in these Narrowband PCS license auctions had an active license as of December 2021.

67. In frequency bands where licenses were subject to auction, the Commission notes that, as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

68. Wireless Communications Services. Wireless Communications Services (WCS) can be used for a variety of fixed, mobile, radiolocation, and digital audio broadcasting satellite services. Wireless spectrum is made available and licensed for the provision of wireless communications services in several frequency bands subject to part 27 of the Commission's rules. Wireless Telecommunications Carriers (except Satellite) is the closest industry with an SBA small business size standard applicable to these services. The SBA small business size standard for this industry classifies a business as small if it has 1,500 or fewer employees. U.S. Census Bureau data for 2017 show that there were 2,893 firms that operated in this industry for the entire year. Of this number, 2,837 firms employed fewer than 250 employees. Thus, under the SBA size standard, the Commission estimates that a majority of licensees in this industry can be considered small.

69. The Commission's small business size standards with respect to WCS involve eligibility for bidding credits and installment payments in the auction of licenses for the various frequency bands included in WCS. When bidding credits are adopted for the auction of licenses in WCS frequency bands, such credits may be available to several types of small businesses based average gross revenues (small, very small and entrepreneur) pursuant to the competitive bidding rules adopted in conjunction with the requirements for the auction and/or as identified in the designated entities section in part 27 of the Commission's rules for the specific WCS frequency bands.

70. In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

71. 700 MHz Guard Band Licensees. The 700 MHz Guard Band encompasses spectrum in 746-747/776-777 MHz and 762-764/792-794 MHz frequency bands. Wireless Telecommunications Carriers (except Satellite) is the closest industry with an SBA small business size standard applicable to licenses providing services in these bands. The SBA small business size standard for this industry classifies a business as small if it has 1,500 or fewer employees. U.S. Census Bureau data for 2017 show that there were 2,893 firms that operated in this industry for the entire year. Of this number, 2,837 firms employed fewer than 250 employees. Thus, under the SBA size standard, the Commission estimates that a majority of licensees in this industry can be considered small.

72. According to Commission data as of December 2021, there were approximately 224 active 700 MHz Guard Band licenses. The Commission's small business size standards with respect to 700 MHz Guard Band licensees involve eligibility for bidding credits and installment payments in the auction of licenses. For the auction of these licenses, the Commission defined a “small business” as an entity that, together with its affiliates and controlling principals, has average gross revenues not exceeding $40 million for the preceding three years, and a “very small business” an entity that, together with its affiliates and controlling principals, has average gross revenues that are not more than $15 million for the preceding three years. Pursuant to these definitions, five winning bidders claiming one of the small business status classifications won 26 licenses, and one winning bidder claiming small business won two licenses. None of the winning bidders claiming a small business status classification in these 700 MHz Guard Band license auctions had an active license as of December 2021.

73. In frequency bands where licenses were subject to auction, the Commission notes that, as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

74. Lower 700 MHz Band Licenses. The lower 700 MHz band encompasses spectrum in the 698-746 MHz frequency bands. Permissible operations in these bands include flexible fixed, mobile, and broadcast uses, including mobile and other digital new broadcast operation; fixed and mobile wireless commercial services (including frequency division duplex (FDD)- and time division duplex (TDD)-based services); as well as fixed and mobile wireless uses for private, internal radio needs, two-way interactive, cellular, and mobile television broadcasting services. Wireless Telecommunications Carriers (except Satellite) is the closest industry with an SBA small business size standard applicable to licenses providing services in these bands. The SBA small business size standard for this industry classifies a business as small if it has 1,500 or fewer employees. U.S. Census Bureau data for 2017 show that there were 2,893 firms that operated in this industry for the entire year. Of this number, 2,837 firms employed fewer than 250 employees. Thus, under the SBA size standard, the Commission estimates that a majority of licensees in this industry can be considered small.

75. According to Commission data as of December 2021, there were approximately 2,824 active Lower 700 MHz Band licenses. The Commission's small business size standards with respect to Lower 700 MHz Band licensees involve eligibility for bidding credits and installment payments in the auction of licenses. For auctions of Lower 700 MHz Band licenses the Commission adopted criteria for three groups of small businesses. A very small business was defined as an entity that, together with its affiliates and controlling interests, has average annual gross revenues not exceeding $15 million for the preceding three years, a small business was defined as an entity that, together with its affiliates and controlling interests, has average gross revenues not exceeding $40 million for the preceding three years, and an entrepreneur was defined as an entity that, together with its affiliates and controlling interests, has average gross revenues not exceeding $3 million for the preceding three years. In auctions for Lower 700MHz Band licenses, 72 winning bidders claiming a small business classification won 329 licenses, 26 winning bidders claiming a small business classification won 214 licenses, and three winning bidders claiming a small business classification won all five auctioned licenses.

76. In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

77. Upper 700 MHz Band Licenses. The upper 700 MHz band encompasses spectrum in the 746-806 MHz bands. Upper 700 MHz D Block licenses are nationwide licenses associated with the 758-763 MHz and 788-793 MHz bands. Permissible operations in these bands include flexible fixed, mobile, and broadcast uses, including mobile and other digital new broadcast operation; fixed and mobile wireless commercial services (including FDD- and TDD-based services); as well as fixed and mobile wireless uses for private, internal radio needs, two-way interactive, cellular, and mobile television broadcasting services. Wireless Telecommunications Carriers (except Satellite) is the closest industry with an SBA small business size standard applicable to licenses providing services in these bands. The SBA small business size standard for this industry classifies a business as small if it has 1,500 or fewer employees. U.S. Census Bureau data for 2017 show that there were 2,893 firms that operated in this industry for the entire year. Of that number, 2,837 firms employed fewer than 250 employees. Thus, under the SBA size standard, the Commission estimates that a majority of licensees in this industry can be considered small.

78. According to Commission data as of December 2021, there were approximately 152 active Upper 700 MHz Band licenses. The Commission's small business size standards with respect to Upper 700 MHz Band licensees involve eligibility for bidding credits and installment payments in the auction of licenses. For the auction of these licenses, the Commission defined a “small business” as an entity that, together with its affiliates and controlling principals, has average gross revenues not exceeding $40 million for the preceding three years, and a “very small business” as an entity that, together with its affiliates and controlling principals, has average gross revenues that are not more than $15 million for the preceding three years. Pursuant to these definitions, three winning bidders claiming very small business status won five of the 12 available licenses.

79. In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

80. Advanced Wireless Services (AWS)—(1710-1755 MHz and 2110-2155 MHz bands (AWS-1); 1915-1920 MHz, 1995-2000 MHz, 2020-2025 MHz and 2175-2180 MHz bands (AWS-2); 2155-2175 MHz band (AWS-3); 2000-2020 MHz and 2180-2200 MHz (AWS-4)). Spectrum is made available and licensed in these bands for the provision of various wireless communications services. Wireless Telecommunications Carriers (except Satellite) is the closest industry with an SBA small business size standard applicable to these services. The SBA small business size standard for this industry classifies a business as small if it has 1,500 or fewer employees. U.S. Census Bureau data for 2017 show that there were 2,893 firms that operated in this industry for the entire year. Of this number, 2,837 firms employed fewer than 250 employees. Thus, under the SBA size standard, the Commission estimates that a majority of licensees in this industry can be considered small.

81. According to Commission data as December 2021, there were approximately 4,472 active AWS licenses. The Commission's small business size standards with respect to AWS involve eligibility for bidding credits and installment payments in the auction of licenses for these services. For the auction of AWS licenses, the Commission defined a small business as an entity with average annual gross revenues for the preceding three years not exceeding $40 million, and a “very small business” as an entity with average annual gross revenues for the preceding three years not exceeding $15 million. Pursuant to these definitions, 57 winning bidders claiming status as small or very small businesses won 215 of 1,087 licenses. In the most recent auction of AWS licenses 15 of 37 bidders qualifying for status as small or very small businesses won licenses.

82. In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

83. Broadband Radio Service and Educational Broadband Service. Broadband Radio Service systems, previously referred to as Multipoint Distribution Service (MDS) and Multichannel Multipoint Distribution Service (MMDS) systems, and “wireless cable,” transmit video programming to subscribers and provide two-way high speed data operations using the microwave frequencies of the Broadband Radio Service (BRS) and Educational Broadband Service (EBS) (previously referred to as the Instructional Television Fixed Service (ITFS)). Wireless cable operators that use spectrum in the BRS often supplemented with leased channels from the EBS, provide a competitive alternative to wired cable and other multichannel video programming distributors. Wireless cable programming to subscribers resembles cable television, but instead of coaxial cable, wireless cable uses microwave channels.

84. In light of the use of wireless frequencies by BRS and EBS services, the closest industry with an SBA small business size standard applicable to these services is Wireless Telecommunications Carriers (except Satellite). The SBA small business size standard for this industry classifies a business as small if it has 1,500 or fewer employees. U.S. Census Bureau data for 2017 show that there were 2,893 firms that operated in this industry for the entire year. Of this number, 2,837 firms employed fewer than 250 employees. Thus, under the SBA size standard, the Commission estimates that a majority of licensees in this industry can be considered small.

85. According to Commission data as December 2021, there were approximately 5,869 active BRS and EBS licenses. The Commission's small business size standards with respect to BRS involves eligibility for bidding credits and installment payments in the auction of licenses for these services. For the auction of BRS licenses, the Commission adopted criteria for three groups of small businesses. A very small business is an entity that, together with its affiliates and controlling interests, has average annual gross revenues exceed $3 million and did not exceed $15 million for the preceding three years, a small business is an entity that, together with its affiliates and controlling interests, has average gross revenues exceed $15 million and did not exceed $40 million for the preceding three years, and an entrepreneur is an entity that, together with its affiliates and controlling interests, has average gross revenues not exceeding $3 million for the preceding three years. Of the ten winning bidders for BRS licenses, two bidders claiming the small business status won 4 licenses, one bidder claiming the very small business status won three licenses and two bidders claiming entrepreneur status won six licenses. One of the winning bidders claiming a small business status classification in the BRS license auction has an active license as of December 2021.

86. The Commission's small business size standards for EBS define a small business as an entity that, together with its affiliates, its controlling interests and the affiliates of its controlling interests, has average gross revenues that are not more than $55 million for the preceding five years, and a very small business is an entity that, together with its affiliates, its controlling interests and the affiliates of its controlling interests, has average gross revenues that are not more than $20 million for the preceding five years. In frequency bands where licenses were subject to auction, the Commission notes that as a general matter, the number of winning bidders that qualify as small businesses at the close of an auction does not necessarily represent the number of small businesses currently in service. Further, the Commission does not generally track subsequent business size unless, in the context of assignments or transfers, unjust enrichment issues are implicated. Additionally, since the Commission does not collect data on the number of employees for licensees providing these services, at this time we are not able to estimate the number of licensees with active licenses that would qualify as small under the SBA's small business size standard.

87. The Educational Broadcasting Services. Cable-based educational broadcasting services fall under the broad category of the Wired Telecommunications Carriers industry. The Wired Telecommunications Carriers industry comprises establishments primarily engaged in operating and/or providing access to transmission facilities and infrastructure that they own and/or lease for the transmission of voice, data, text, sound, and video using wired telecommunications networks. Transmission facilities may be based on a single technology or a combination of technologies. Establishments in this industry use the wired telecommunications network facilities that they operate to provide a variety of services, such as wired telephony services, including Voice over Internet Protocol (VoIP) services; wired (cable) audio and video programming distribution; and wired broadband internet services.

88. The SBA small business size standard for this industry classifies businesses having 1,500 or fewer employees as small. U.S. Census Bureau data for 2017 show that there were 3,054 firms in this industry that operated for the entire year. Of this total, 2,964 firms operated with fewer than 250 employees. Thus, under this size standard, the majority of firms in this industry can be considered small. Additionally, according to Commission data as of December 2021, there were 4,477 active EBS licenses. The Commission estimates that the majority of these licenses are held by non-profit educational institutions and school districts and are likely small entities.

89. Radio and Television Broadcasting and Wireless Communications Equipment Manufacturing. This industry comprises establishments primarily engaged in manufacturing radio and television broadcast and wireless communications equipment. Examples of products made by these establishments are: transmitting and receiving antennas, cable television equipment, Global Positioning System (GPS) equipment, pagers, cellular phones, mobile communications equipment, and radio and television studio and broadcasting equipment. The SBA small business size standard for this industry classifies businesses having 1,250 employees or less as small. U.S. Census Bureau data for 2017 show that there were 656 firms in this industry that operated for the entire year. Of this number, 624 firms had fewer than 250 employees. Thus, under the SBA size standard, the majority of firms in this industry can be considered small.

90. Software Publishers. This industry comprises establishments primarily engaged in computer software publishing or publishing and reproduction. Establishments in this industry carry out operations necessary for producing and distributing computer software, such as designing, providing documentation, assisting in installation, and providing support services to software purchasers. These establishments may design, develop, and publish, or publish only. The SBA small business size standard for this industry classifies businesses having annual receipts of $41.5 million or less as small. U.S. Census Bureau data for 2017 indicate that 7,842 firms in this industry operated for the entire year. Of this number 7,226 firms had revenue of less than $25 million. Based on this data, we conclude that a majority of firms in this industry are small.

91. Noncommercial Educational (NCE) and Public Broadcast Stations. Noncommercial educational broadcast stations and public broadcast stations are television or radio broadcast stations which under the Commission's rules are eligible to be licensed by the Commission as a noncommercial educational radio or television broadcast station and are owned and operated by a public agency or nonprofit private foundation, corporation, or association; or are owned and operated by a municipality which transmits only noncommercial programs for education purposes.

92. The SBA small business size standards and U.S. Census Bureau data classify radio stations and television broadcasting separately and both categories may include both noncommercial and commercial stations. The SBA small business size standard for both radio stations and television broadcasting classify firms having $47 million or less in annual receipts as small. For Radio Stations, U.S. Census Bureau data for 2017 show that 1,879 of the 2,963 firms that operated during that year had revenue of less than $25 million per year. For Television Broadcasting, U.S. Census Bureau data for 2017 show that 657 of the 744 firms that operated for the entire year had revenue of less than $25,000,000. While the U.S. Census Bureau data does not indicate the number of non-commercial stations, we estimate that under the applicable SBA size standard the majority of noncommercial educational broadcast stations and public broadcast stations are small entities. According to Commission data as of March 31, 2024, there were 4,703 licensed noncommercial educational radio and television stations. In addition, the Commission estimates as March 31, 2024, there were 383 licensed NCE television stations, 379 Class A TV stations, 1,829 low power TV (LPTV) stations, and 3,118 TV translator stations. The Commission does not compile and otherwise does not have access to financial information for these stations that permit it to determine how many stations qualify as small entities under the SBA small business size standards. However, given the nature of these services, we will presume that all noncommercial educational and public broadcast stations qualify as small entities under the above SBA small business size standards.

93. Radio Stations. This industry is comprised of “establishments primarily engaged in broadcasting aural programs by radio to the public.” Programming may originate in their own studio, from an affiliated network, or from external sources. The SBA small business size standard for this industry classifies firms having $47 million or less in annual receipts as small. U.S. Census Bureau data for 2017 show that 2,963 firms operated in this industry during that year. Of this number, 1,879 firms operated with revenue of less than $25 million per year. Based on this data and the SBA's small business size standard, we estimate a majority of such entities are small entities.

94. The Commission estimates that as of June 30, 2024, there were 4,413 licensed commercial AM radio stations and 6,620 licensed commercial FM radio stations, for a combined total of 11,033 commercial radio stations. Of this total, 11,032 stations (or 99.99%) had revenues of $47 million or less in 2023, according to Commission staff review of the BIA Kelsey Inc. Media Access Pro Database (BIA) on July 3, 2024, and therefore these licensees qualify as small entities under the SBA definition. In addition, the Commission estimates that as of June 30, 2024, there were 4,356 NCE FM radio stations, 1,965 low power FM (LPFM) stations, and 8,906 FM translators and boosters. The Commission however does not compile, and otherwise does not have access to financial information for these radio stations that would permit it to determine how many of these stations qualify as small entities under the SBA small business size standard. Nevertheless, given the SBA's large annual receipts threshold for this industry and the nature of radio station licensees, we presume that all of these entities qualify as small entities under the above SBA small business size standard.

95. We note, however, that in assessing whether a business concern qualifies as “small” under the above definition, business (control) affiliations must be included. Our estimate, therefore, likely overstates the number of small entities that might be affected by our action, because the revenue figure on which it is based does not include or aggregate revenues from affiliated companies. In addition, another element of the definition of “small business” requires that an entity not be dominant in its field of operation. We are unable at this time to define or quantify the criteria that would establish whether a specific radio or television broadcast station is dominant in its field of operation. Accordingly, the estimate of small businesses to which the rules may apply does not exclude any radio or television station from the definition of a small business on this basis and is therefore possibly over-inclusive. An additional element of the definition of “small business” is that the entity must be independently owned and operated. Because it is difficult to assess these criteria in the context of media entities, the estimate of small businesses to which the rules may apply does not exclude any radio or television station from the definition of a small business on this basis and similarly may be over-inclusive.

96. FM Translator Stations and Low-Power FM Stations. FM translators and Low Power FM Stations are classified in the industry for Radio Stations. The Radio Stations industry comprises establishments primarily engaged in broadcasting aural programs by radio to the public. Programming may originate in their own studio, from an affiliated network, or from external sources. The SBA small business size standard for this industry classifies firms having $47 million or less in annual receipts as small. U.S. Census Bureau data for 2017 show that 2,963 firms operated during that year. Of that number, 1,879 firms operated with revenue of less than $25 million per year. Therefore, based on the SBA's size standard we conclude that the majority of FM Translator stations and Low Power FM Stations are small. Additionally, according to Commission data, as of March 31, 2024, there were 8,913 FM Translator Stations and 1,960 Low Power FM licensed broadcast stations. The Commission however does not compile and otherwise does not have access to information on the revenue of these stations that would permit it to determine how many of the stations would qualify as small entities. For purposes of this regulatory flexibility analysis, we presume the majority of these stations are small entities.

97. Television Broadcasting. This industry is comprised of “establishments primarily engaged in broadcasting images together with sound.” These establishments operate television broadcast studios and facilities for the programming and transmission of programs to the public. These establishments also produce or transmit visual programming to affiliated broadcast television stations, which in turn broadcast the programs to the public on a predetermined schedule. Programming may originate in their own studio, from an affiliated network, or from external sources. The SBA small business size standard for this industry classifies businesses having $47 million or less in annual receipts as small. 2017 U.S. Census Bureau data indicate that 744 firms in this industry operated for the entire year. Of that number, 657 firms had revenue of less than $25,000,000. Based on this data we estimate that the majority of television broadcasters are small entities under the SBA small business size standard.

98. As of June 30, 2024, there were 1,384 licensed commercial television stations. Of this total, 1,307 stations (or 94.4%) had revenues of $47 million or less in 2023, according to Commission staff review of the BIA on July 3, 2024, and therefore these licensees qualify as small entities under the SBA definition. In addition, the Commission estimates as of June 30, 2024, there were 382 licensed NCE television stations, 379 Class A TV stations, 1,821 LPTV stations, and 3,100 TV translator stations. The Commission, however, does not compile and otherwise does not have access to financial information for these television broadcast stations that would permit it to determine how many of these stations qualify as small entities under the SBA small business size standard. Nevertheless, given the SBA's large annual receipts threshold for this industry and the nature of these television station licensees, we presume that all of these entities qualify as small entities under the above SBA small business size standard.

99. Cable and Other Subscription Programming. The U.S. Census Bureau defines this industry as establishments primarily engaged in operating studios and facilities for the broadcasting of programs on a subscription or fee basis. The broadcast programming is typically narrowcast in nature (e.g., limited format, such as news, sports, education, or youth-oriented). These establishments produce programming in their own facilities or acquire programming from external sources. The programming material is usually delivered to a third party, such as cable systems or direct-to-home satellite systems, for transmission to viewers. The SBA small business size standard for this industry classifies firms with annual receipts less than $41.5 million as small. Based on U.S. Census Bureau data for 2017, 378 firms operated in this industry during that year. Of that number, 149 firms operated with revenue of less than $25 million a year and 44 firms operated with revenue of $25 million or more. Based on this data, the Commission estimates that the majority of firms operating in this industry are small.

100. Cable System Operators (Rate Regulation Standard). The Commission has developed its own small business size standard for the purpose of cable rate regulation. Under the Commission's rules, a “small cable company” is one serving 400,000 or fewer subscribers nationwide. Based on industry data, there are about 420 cable companies in the U.S. Of these, only seven have more than 400,000 subscribers. In addition, under the Commission's rules, a “small system” is a cable system serving 15,000 or fewer subscribers. Based on industry data, there are about 4,139 cable systems (headends) in the U.S. Of these, about 639 have more than 15,000 subscribers. Accordingly, the Commission estimates that the majority of cable companies and cable systems are small.

101. Cable System Operators (Telecom Act Standard). The Communications Act of 1934, as amended, contains a size standard for a “small cable operator,” which is “a cable operator that, directly or through an affiliate, serves in the aggregate fewer than one percent of all subscribers in the United States and is not affiliated with any entity or entities whose gross annual revenues in the aggregate exceed $250,000,000.” For purposes of the Telecom Act Standard, the Commission determined that a cable system operator that serves fewer than 498,000 subscribers, either directly or through affiliates, will meet the definition of a small cable operator. Based on industry data, only six cable system operators have more than 498,000 subscribers. Accordingly, the Commission estimates that the majority of cable system operators are small under this size standard. We note however, that the Commission neither requests nor collects information on whether cable system operators are affiliated with entities whose gross annual revenues exceed $250 million. Therefore, we are unable at this time to estimate with greater precision the number of cable system operators that would qualify as small cable operators under the definition in the Communications Act.

102. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $38.5 million or less in annual receipts as small. U.S. Census Bureau data for 2017 show that 275 firms in this industry operated for the entire year. Of this number, 242 firms had revenue of less than $25 million. Additionally, based on Commission data in the 2022 Universal Service Monitoring Report, as of December 31, 2021, there were 65 providers that reported they were engaged in the provision of satellite telecommunications services. Of these providers, the Commission estimates that approximately 42 providers have 1,500 or fewer employees. Consequently, using the SBA's small business size standard, approximately two-thirds of these providers can be considered small entities.

103. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or VoIP services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

104. Direct Broadcast Satellite (“DBS”) Service. DBS service is a nationally distributed subscription service that delivers video and audio programming via satellite to a small parabolic “dish” antenna at the subscriber's location. DBS is included in the Wired Telecommunications Carriers industry which comprises establishments primarily engaged in operating and/or providing access to transmission facilities and infrastructure that they own and/or lease for the transmission of voice, data, text, sound, and video using wired telecommunications networks. Transmission facilities may be based on a single technology or combination of technologies. Establishments in this industry use the wired telecommunications network facilities that they operate to provide a variety of services, such as wired telephony services, including VoIP services, wired (cable) audio and video programming distribution; and wired broadband internet services. By exception, establishments providing satellite television distribution services using facilities and infrastructure that they operate are included in this industry.

105. The SBA small business size standard for Wired Telecommunications Carriers classifies firms having 1,500 or fewer employees as small. U.S. Census Bureau data for 2017 show that 3,054 firms operated in this industry for the entire year. Of this number, 2,964 firms operated with fewer than 250 employees. Based on this data, the majority of firms in this industry can be considered small under the SBA small business size standard. According to Commission data however, only two entities provide DBS service—DIRECTV (owned by AT&T) and DISH Network, which require a great deal of capital for operation. DIRECTV and DISH Network both exceed the SBA size standard for classification as a small business. Therefore, we must conclude based on internally developed Commission data, in general DBS service is provided only by large firms.

E. Description of Projected Reporting, Recordkeeping, and Other Compliance Requirements for Small Entities

106. The Order will impose new or additional reporting, recordkeeping, and/or other compliance obligations on small entities, including EAS Participants that choose to use the new MEP code, and small EAS equipment manufactures. As proposed in the MEP NPRM, use of the MEP event code for EAS is voluntary. The Commission allows a period of 12 months from publication of the Report and Order in the Federal Register to enable the delivery of Ashanti Alerts over EAS, and 12 months from publication of the Report and Order in the Federal Register to enable the delivery of Ashanti Alerts over WEA. This will allow time for the equipment manufacturers and CMSPs to prepare their equipment and networks to be able to process Ashanti Alerts sent over EAS and WEA. This will also allow EAS Participants and other stakeholders to acquire the training and resources to deliver Ashanti Alerts to the public.

107. The Commission finds that most of the potential costs of implementation arise from software updates made outside of the normal course of planned upgrades and estimate that a dedicated Ashanti Alert EAS event code would not exceed a one-time $12 million implementation cost. The main cost is to EAS Participants, in that those who elect to install the MEP alert code will bear the cost involved in downloading the software updates into their devices, and any associated clerical work. The Commission minimizes additional costs by allowing sufficient time and flexibility so that manufacturers and EAS Participants may make upgrades in tandem with general software upgrades installed during the regular course of business. This approach will significantly reduce the costs to small entities as well as to other EAS Participants, which fosters greater support for the MEP alerts and ensures that more alerts about missing and endangered person are transmitted by EAS Participants over time. As noted above, the Order permits transmission of MEP Alerts over WEA using an existing WEA message classification.

F. Steps Taken To Minimize the Significant Economic Impact on Small Entities, and Significant Alternatives Considered

108. The RFA requires an agency to provide “a description of the steps the agency has taken to minimize the significant economic impact on small entities . . . including a statement of the factual, policy, and legal reasons for selecting the alternative adopted in the final rule and why each one of the other significant alternatives to the rule considered by the agency which affect the impact on small entities was rejected.”

109. As mentioned above, the Order adopts “MEP” as a new EAS event code for Ashanti Alerts, and requires implementation by small and other participating EAS Participants and CMRS Providers on a voluntary basis through equipment already in place, which will require a software upgrade. Among the alternatives presented in the MEP NPRM was whether there are existing EAS event codes that could effectively transmit Ashanti Alerts. The Commission determined that existing EAS event codes are either unavailable for missing and endangered adults or do not effectively identify Ashanti Alerts to the public. The Commission also considered a Tribal-specific MIP event code, however the Commission did not adopt this alternative because there is greater support for the MEP EAS code. In considering ways to minimize costs to EAS Participants associated with implementing the codes, the Commission anticipates compliance costs will be limited to the cost of labor for downloading software updates, which may be completed during the regular course of business.

G. Report to Congress

110. The Commission will send a copy of the Order, including the FRFA, in a report to Congress pursuant to the Congressional Review Act. In addition, the Commission will send a copy of the Order, including the FRFA, to the Chief Counsel for Advocacy of the SBA. A copy of the Order, and FRFA (or summaries thereof) will also be published in the Federal Register.

V. Ordering Clauses

111. Accordingly, it is ordered that, pursuant to sections 1, 4(i), 4(n), 303(r), 303(v), 624(g), and 706 of the Communications Act of 1934, as amended, 47 U.S.C. 151, 154(i), 154(n), 303(r), 303(v), 544(g), 606, the Report and Order is adopted.

112. It is further ordered that the Commission's rules are hereby amended as set forth in Appendix A of the Order.

113. It is further ordered that the rules and requirements adopted herein, including at Appendix A of the Order, to enable the delivery of missing and endangered person alerts over EAS will become effective 12 months from the date of publication in the Federal Register.

114. It is further ordered that the rules and requirements adopted herein, including at Appendix A of the Order, to enable the delivery of missing and endangered person alerts over WEA will become effective 12 months from the date of publication in the Federal Register.

115. It is further ordered that the Office of the Managing Director, Performance Program Management, shall send a copy of the Report and Order in a report to be sent to Congress and the Government Accountability Office pursuant to the Congressional Review Act, 5 U.S.C. 801(a)(1)(A).

116. It is further ordered that the Commission's Office of Secretary shall send a copy of the Report and Order, including the Regulatory Flexibility Analysis, to the Chief Counsel for Advocacy of the Small Business Administration.

List of Subjects in 47 CFR Part 11

Radio, Television.

Federal Communications Commission.
Marlene Dortch,
Secretary, Office of the Secretary.

Final Rules

For the reasons discussed in the preamble, the Federal Communications Commission amends 47 CFR part 11 as follows:

PART 11—EMERGENCY ALERT SYSTEM (EAS)

1. The authority citation for part 11 is revised to read as follows:

Authority: 47 U.S.C. 151, 154 (i) and (n), 303(r), 544(g), 606, 1201, and 1206.

2. Amend § 11.31 by:

a. Designating the table in paragraph (d)(1) as table 1 to paragraph (d)(1);

b. Designating the table in paragraph (e) as table 2 to paragraph (e);

c. Revising newly designated table 2 to paragraph (e); and

d. Designating the table in paragraph (f) as table 3 to paragraph (f).

The revision reads as follows:

§ 11.31 EAS protocol.

* * * * *

(e) * * *

Table 2 to Paragraph (e)
Nature of activation | Event codes
National Codes (Required):
Emergency Action Notification (National only) | EAN.
National Information Center | NIC.
National Periodic Test | NPT.
Required Monthly Test | RMT.
Required Weekly Test | RWT.
State and Local Codes (Optional):
Administrative Message | ADR.
Avalanche Warning | AVW.
Avalanche Watch | AVA.
Blizzard Warning | BZW.
Blue Alert | BLU.
Child Abduction Emergency | CAE.
Civil Danger Warning | CDW.
Civil Emergency Message | CEM.
Coastal Flood Warning | CFW.
Coastal Flood Watch | CFA.
Dust Storm Warning | DSW.
Earthquake Warning | EQW.
Evacuation Immediate | EVI.
Extreme Wind Warning | EWW.
Fire Warning | FRW.
Flash Flood Warning | FFW.
Flash Flood Watch | FFA.
Flash Flood Statement | FFS.
Flood Warning | FLW.
Flood Watch | FLA.
Flood Statement | FLS.
Hazardous Materials Warning | HMW.
High Wind Warning | HWW.
High Wind Watch | HWA.
Hurricane Warning | HUW.
Hurricane Watch | HUA.
Hurricane Statement | HLS.
Law Enforcement Warning | LEW.
Local Area Emergency | LAE.
Missing and Endangered Persons | MEP.
Network Message Notification | NMN.
911 Telephone Outage Emergency | TOE.
Nuclear Power Plant Warning | NUW.
Practice/Demo Warning | DMO.
Radiological Hazard Warning | RHW.
Severe Thunderstorm Warning | SVR.
Severe Thunderstorm Watch | SVA.
Severe Weather Statement | SVS.
Shelter in Place Warning | SPW.
Special Marine Warning | SMW.
Special Weather Statement | SPS.
Storm Surge Watch | SSA.
Storm Surge Warning | SSW.
Tornado Warning | TOR.
Tornado Watch | TOA.
Tropical Storm Warning | TRW.
Tropical Storm Watch | TRA.
Tsunami Warning | TSW.
Tsunami Watch | TSA.
Volcano Warning | VOW.
Winter Storm Warning | WSW.
Winter Storm Watch | WSA.

* * * * *

[FR Doc. 2024-19530 Filed 9-5-24; 8:45 am]

BILLING CODE 6712-01-P